FEDERAL RESERVE SYSTEM

Change in Bank Control Notices, Acquisitions of Shares of Banks or Bank Holding Companies; Correction

This notice corrects a notice (FR Doc. 00-20742) published on pages 49986 and 49987 of the issue for Wednesday, August 16, 2000.

Under the Federal Reserve Bank of Chicago heading, the entry for Edwin L. Adler, Lake Angelus, Michigan, is revised to read as follows:

A. Federal Reserve Bank of Chicago (Phillip Jackson, Applications Officer) 230 South LaSalle Street, Chicago, Illinois 60690-1414:

1. Edwin L. Adler, Lake Angelus, Michigan; to acquire additional voting shares of Clarkston Financial Corporation, Clarkston, Michigan, and thereby indirectly acquire additional voting shares of Clarkston State Bank, Clarkston, Michigan.

Comments on this application must be received by August 30, 2000.

Board of Governors of the Federal Reserve System, August 16, 2000.

Robert deV. Frierson,
Associate Secretary of the Board.

[FR Doc. 00-21279 Filed 8-21-00; 8:45 am]

BILLING CODE 6210-01-P